NUCLEAR REGULATORY COMMISSION

[NRC-2011-0254]

Common-Cause Failure Analysis in Event and Condition Assessment: Guidance and Research, Draft Report for Comment

AGENCY: Nuclear Regulatory Commission.

ACTION: Reopening of comment period.

SUMMARY: On November 2, 2011 (76 FR 67764), the U.S. Nuclear Regulatory Commission (NRC) published for public comment Draft NUREG, “Common-Cause Failure Analysis in Event and Condition Assessment: Guidance and Research.” The public comment period was scheduled to expire on January 31, 2012. In order to allow the public sufficient time to review and comment on the Draft NUREG, the NRC has decided to reopen the comment period until March 2, 2012.

DATES: The comment period has been reopened and now closes on March 2, 2012. Comments received after this date will be considered if it is practical to do so. The NRC is only able to assure consideration of comments received on or before this date.

ADDRESSES: Please include Docket ID NRC-2011-0254 in the subject line of your comments. For additional instructions on submitting comments and instructions on accessing documents related to this action, see “Submitting Comments and Accessing Information” in the SUPPLEMENTARY INFORMATION section of this document. You may submit comments by any of the following methods:

• Federal Rulemaking Web site: Go to http://www.regulations.gov and search for documents filed under Docket ID NRC-2011-0254. Address questions about NRC dockets to Carol Gallagher, telephone: (301) 492-3668; email Carol.Gallagher@nrc.gov.

• Mail comments to: Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Song-Hua Shen, Division of Risk Analysis, Office of Nuclear Regulatory Research, U.S. Nuclear Regulatory Commission, Washington, DC 20555-0001; telephone: (301) 251-7571, email: Song-Hua.Shen@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The draft NUREG is available electronically under ADAMS Accession No. ML111890290. The draft NUREG will also be accessible through the NRC's public site under draft NUREGs for comment.

• Federal Rulemaking Web Site: Public comments and supporting materials related to this notice can be found at http://www.regulations.gov by searching on Docket ID NRC-2011-0254.

Discussion

On November 2, 2011 (76 FR 67764), the NRC published for public comment Draft NUREG, “Common-Cause Failure Analysis in Event and Condition Assessment: Guidance and Research.” The NRC is aware of broad stakeholder interest, and believes that it is important the document receives a thorough technical review. In order to allow the public sufficient time to review and comment on the Draft NUREG, the NRC has decided to reopen the comment period until March 2, 2012.

Dated at Rockville, Maryland, this 30th day of January 2012.
For the Nuclear Regulatory Commission.
Gary M. DeMoss,
Chief, Performance and Reliability Branch, Division of Risk Analysis, Office of Nuclear Regulatory Research.

[FR Doc. 2012-2593 Filed 2-3-12; 8:45 am]

BILLING CODE 7590-01-P